NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 19, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001. E-mail: requestschedule@nara.gov. FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note the New Address for Requesting Schedules Using E-Mail)

1. Department of Agriculture, Agricultural Marketing Service (N1-136-06-13, 8 items, 8 temporary items). Inputs, outputs, master files, system documentation, and electronic mail and word processing copies associated with an electronic information system used to collect and report on seed sample testing and interstate investigation data. This schedule authorizes the agency to apply the proposed disposition instructions to any recordkeeping medium.

2. Department of Agriculture, Agricultural Marketing Service (N1-136-06-3, 7 items, 7 temporary items). Inputs, outputs, master files, system documentation, and electronic mail and word processing copies associated with an electronic information system used to collect and report on livestock industry data as required by the Livestock Mandatory Reporting Act of 1999. This schedule authorizes the agency to apply the proposed disposition instructions to any recordkeeping medium.

3. Department of Agriculture, Cooperative State Research, Education, and Extension Service (N1-540-06-1, 16 items, 16 temporary items). Inputs, outputs, master files, system documentation, and electronic mail and word processing copies associated with an electronic information system that tracks and reports on the grant application approval process for agricultural research projects mandated by Congress, as well as the allocation and disbursement of public funds. Final reports and summary information about completed and ongoing research were previously approved as permanent as part of the Current Research Information System. This schedule authorizes the agency to apply the proposed disposition instructions to any recordkeeping medium.

4. Department of Agriculture, Cooperative State Research, Education, and Extension Service (N1-540-06-3, 8 items, 8 temporary items). Grant records, including funded and unfunded award and agreement case files, and formula-funded allocation records required to monitor disbursement and reporting. Also included are electronic copies of records created using electronic mail and word processing. This schedule authorizes the agency to apply the proposed disposition instructions to any recordkeeping medium.

5. Department of the Air Force, Agency-wide (N1-AFU-03-14, 4 items, 4 temporary items). Medical illustrations, photographs, and related indexes maintained by medical treatment facilities for instructional and reference purposes.

6. Department of Commerce, U.S. Patent and Trademark Office (N1-241-05-1, 34 items, 34 temporary items). An agency-wide schedule that consists of records pertaining to quality services, corporate planning, legal administration, information technology operations, human resources, finance, budget, administrative services, and general administrative activities that fall outside of the General Records Schedules yet support agency administrative functions. This schedule authorizes the agency to apply the proposed disposition instructions to any recordkeeping medium.

7. Department of Commerce, U.S. Patent and Trademark Office (N1-241-05-2, 16 items, 12 temporary items). Records include Patent and Trademark Depository Library administrative files, copies of products and publications used for public dissemination purposes, preliminary input information for dissemination of products and publications, short-term information dissemination products, and operations support files for the dissemination function. Proposed for permanent retention are recordkeeping copies of core agency and program publications, related indices, Patent and Trademark Depository Library program and publication files, and historical reference materials. This schedule authorizes the agency to apply the proposed disposition instructions to any recordkeeping medium.

8. Department of Defense, Defense Finance and Accounting Service (N1-507-06-2, 1 item, 1 temporary item). An agency-wide schedule that applies to individual traveler charge card holder account files, including charge card applications, training certificates, and other administrative communications and correspondence.

9. Department of Education, Office of the Chief Financial Officer (N1-441-06-1, 3 items, 3 temporary items). Operating documents and review files pertaining to research activities involving human subjects. Included are Department institutional review board procedures and membership rosters, meeting minutes, copies of research proposals reviewed and decision documentation, progress reports, and reports of injuries to research subjects. Also included are electronic copies of records created using electronic mail and word processing.

10. Department of Homeland Security, Federal Air Marshal Service (N1-560-06-4, 12 items, 10 temporary items). Records of the Office of the Director including reference copies of routine correspondence relating to agency administrative and operational activities, correspondence pertaining to investigations of employees, and copies of audit reports and background documentation. Proposed for permanent retention are recordkeeping copies of transcripts from congressional inquiries or hearings, and reports provided to congressional committees. Also included are electronic copies of records created using electronic mail and word processing.

11. Department of Homeland Security, U.S. Coast Guard (N1-26-05-14, 9 items, 7 temporary items). Inputs and outputs associated with an electronic information system used to capture, link, and distribute contingency plans, operational exercises, and lessons learned. Also included are the master files relating to the plans and exercises, and electronic copies of records created using electronic mail and word processing. Proposed for permanent retention are the master files and documentation relating to lessons learned.

12. Department of Justice, Federal Bureau of Investigation (N1-65-05-6, 6 items, 3 temporary items). Prepublication review requests outside the scope of agency review and outputs associated with an electronic information system used to track the status of nonofficial publications submitted by agency employees. Also included are electronic copies of records created using electronic mail and word processing. Proposed for permanent retention are recordkeeping copies of prepublication review files, tracking system master files, and system documentation.

13. Department of Transportation, Federal Highway Administration (N1-406-06-3), 3 items, 3 temporary items. Records of the Office of Transportation Management relating to the tracking and reviewing of funding for Intelligent Transportation System projects authorized under the Transportation Equity Act-21, Sections 5208 and 5209. Also scheduled are electronic copies of records created using electronic mail and word processing.

14. Department of Transportation, Federal Motor Carrier Safety Administration (N1-557-05-6, 50 items, 38 temporary items). Records accumulated by the Office of Enforcement and Program Delivery including cargo tank reports, chronological files, compliance case files, various grant case files, and cooperative agreement files. Also included are electronic copies of records created using electronic mail and word processing. Proposed for permanent retention are recordkeeping copies of commercial driver's license program publications, educational and technical assistance publications, Federal programs general subject file, and motor carrier safety training texts. This schedule authorizes the agency to apply the proposed disposition instructions to any recordkeeping medium.

15. Department of the Treasury, Internal Revenue Service (N1-58-05-7, 49 items, 42 temporary items). Records of the National Research Program relating to taxpayer compliance with filing income tax returns. Records include preliminary survey and study design requirements, measurement requirements, test documents, system design and specification records, and study reports. Also included are electronic copies of records created using electronic mail and word processing. Proposed for permanent retention are recordkeeping copies of sample selection requirements and final sample design, study prospectus, data dictionaries and electronic final research files, executive meeting and decision documentation, and internal audit reports.

16. Department of Veterans Affairs, Office of General Counsel (N1-15-06-2, 35 items, 33 temporary items). General correspondence files, electronic tracking and control databases, labor management and equal employment opportunity case files, real property files, requests for information under the Freedom of Information Act and Privacy Act, hospital reimbursement records, debt collection records, litigation files, administrative tort claims, bankruptcy records, records concerning accreditation of service organization representatives, budget files, leases, patent case files, licensing board records, publication reviews, interagency agreements, and fiduciary records. Also included are electronic copies of records created using electronic mail and word processing records. Proposed for permanent retention are recordkeeping copies of precedential legal opinions and veteran benefit files.

17. Environmental Protection Agency, Agency-wide (N1-412-06-5, 4 items, 3 temporary items). Employee calendars, schedules, logs of daily activities, and electronic copies of records created with word processing and electronic mail applications. Proposed for permanent retention are recordkeeping copies of substantive information relating to the official activities of senior officials and assistants, the substance of which has not been incorporated into memoranda, reports, correspondence, or other records in the official files. This schedule authorizes the agency to apply the proposed disposition instructions to any recordkeeping medium.

18. Environmental Protection Agency, Office of Research and Development (N1-412-06-21, 5 items, 5 temporary items). Inputs, outputs, master files, documentation, and software associated with an electronic information system used for financial management, project tracking, human resources management, and laboratory implementation plan decisions.

19. Farm Credit Administration (N1-103-06-1, 5 items, 4 temporary items). Public information requests and employee working papers relating to agency studies. Also included are electronic copies of records created using electronic mail and word processing systems. Proposed for permanent retention are recordkeeping copies of actions and votes of the agency's governing board.

Dated: April 27, 2006.
Michael J. Kurtz,
Assistant Archivist for Records Services—Washington, DC.

[FR Doc. E6-6849 Filed 5-4-06; 8:45 am]

BILLING CODE 7515-01-P